DEPARTMENT OF COMMERCE

National Oceanic and Atmospheric Administration

50 CFR Part 679

[Docket No. 070917520-8258-02]

RIN 0648-AW06

Fisheries of the Exclusive Economic Zone Off Alaska; Groundfish Fisheries of the Bering Sea and Aleutian Islands Management Area

AGENCY: National Marine Fisheries Service (NMFS), National Oceanic and Atmospheric Administration (NOAA), Commerce.

ACTION: Proposed rule; request for comments.

SUMMARY: NMFS issues a proposed rule that would implement Amendment 89 to the Fishery Management Plan for Groundfish of the Bering Sea and Aleutian Islands Management Area (FMP) to establish Bering Sea habitat conservation measures. Amendment 89, if approved, would prohibit nonpelagic trawling in certain waters of the Bering Sea subarea to protect bottom habitat from the potential adverse effects of nonpelagic trawling. Amendment 89 also would establish the Northern Bering Sea Research Area for studying the impacts of nonpelagic trawling on bottom habitat. This proposed rule is necessary to protect Bering Sea subarea bottom habitat from the potential effects of nonpelagic trawling and to provide the opportunity to further study the effects of nonpelagic trawling on bottom habitat. This action is intended to promote the goals and objectives of the Magnuson-Stevens Fishery Conservation and Management Act, the FMP, and other applicable laws.

DATES: Written comments must be received by April 21, 2008.

ADDRESSES: Send comments to Sue Salveson, Assistant Regional Administrator, Sustainable Fisheries Division, Alaska Region, NMFS, Attn: Ellen Sebastian. You may submit comments, identified by 0648-AW06, by any one of the following methods:

• Electronic Submissions: Submit all electronic public comments via the Federal eRulemaking Portal website at http://www.regulations.gov.

• Mail: P. O. Box 21668, Juneau, AK 99802.

• Fax: (907) 586-7557.

• Hand delivery to the Federal Building: 709 West 9th Street, Room 420A, Juneau, AK.

All comments received are a part of the public record and will generally be posted to http://www.regulations.gov without change. All Personal Identifying Information (e.g., name, address) voluntarily submitted by the commenter may be publicly accessible. Do not submit Confidential Business Information or otherwise sensitive or protected information.

NMFS will accept anonymous comments. Attachments to electronic comments will be accepted in Microsoft Word, Excel, WordPerfect, or Adobe portable document file (pdf) formats only.

Copies of the FMP amendment, maps of the Bering Sea subarea nonpelagic trawl closure areas and Northern Bering Sea Research Area, and the Environmental Assessment/Regulatory Impact Review/Initial Regulatory Flexibility Analysis (EA/RIR/IRFA) for this action may be obtained from the Alaska Region NMFS address above or from the Alaska Region NMFS website at http://www.fakr.noaa.gov.

FOR FURTHER INFORMATION CONTACT: Melanie Brown, 907-586-7228 or email at melanie.brown@noaa.gov.

SUPPLEMENTARY INFORMATION: The Bering Sea and Aleutian Islands Management Area (BSAI) groundfish fisheries are managed under the FMP. The North Pacific Fishery Management Council (Council) prepared the FMP under the authority of the Magnuson-Stevens Fishery Conservation and Management Act (Magnuson-Stevens Act). Regulations implementing the FMP appear at 50 CFR parts 679 and 680. General regulations governing U.S. fisheries also appear at 50 CFR part 600.

The Council has submitted Amendment 89 for review by the Secretary of Commerce, and a notice of availability of the amendment was published in the Federal Register on February 27, 2008 (73 FR 10415), with comments on the amendment invited through April 28, 2008. Comments may address the FMP amendment, the proposed rule, or both, but must be received by April 28, 2008, to be considered in the approval/disapproval decision on the FMP amendment. All comments received by that time, whether specifically directed to the FMP amendment or to the proposed rule, will be considered in the approval/disapproval decision on the FMP amendment.

Background

In 2006, NMFS implemented essential fish habitat (EFH) protection measures for the Aleutian Islands subarea, Gulf of Alaska, and adjacent State of Alaska (State) waters (71 FR 36694, June 28, 2006, and corrected 72 FR 63500, November 9, 2007). The background on the development of the EFH protection measures is available in the proposed rule for that action (71 FR 14470, March 22, 2006). The EFH protection measures did not include the Bering Sea subarea as the Council recommended that additional analysis was needed to identify bottom habitat concerns and to develop potential conservation measures.

In June 2007, the Council recommended, and the Secretary proposes, closing areas to nonpelagic trawling as a precautionary measure to prevent the potential adverse effects of nonpelagic trawling on portions of bottom habitat of the Bering Sea subarea. These closed areas would include locations that have not been previously fished with nonpelagic trawl gear, nearshore bottom habitat areas that support subsistence marine resources, and a research area for further study of the potential impacts of nonpelagic trawling on bottom habitat. The proposed closed areas that extend into State waters would apply to federally permitted vessels operating in State waters. Maps of the proposed areas to be closed to nonpelagic trawling and the proposed research area are available from the Alaska Region NMFS website at http://www.fakr.noaa.gov/habitat/efh.htm. Each closed area and the research area are described in detail below.

Bering Sea Habitat Conservation Area

The Council recommended, and the Secretary proposes, limiting nonpelagic trawling in the Bering Sea subarea to areas that have historically been or are presently being fished with nonpelagic trawl gear. This action is intended to prevent expansion of the nonpelagic trawl fisheries into areas not previously fished with nonpelagic trawl gear and to provide for the developing arrowtooth flounder fishery. The remainder of the Bering Sea subarea would be closed to nonpelagic trawling. This action would provide protection from the potential effects of nonpelagic trawling for areas where substantial amounts of nonpelagic trawling has not occurred.

The center of distribution of the arrowtooth flounder fishery is shifting to the northwest, and the Council intended that this fishery have the opportunity to target concentrations of arrowtooth flounder to ensure an efficient fishery. This potential movement of the arrowtooth flounder stock distribution may be related to an increase in the mean bottom water temperature in the Bering Sea subarea and is further described in the EA/RIR/IRFA for this action (see ADDRESSES).

The Council, working with the fishing industry and environmental organizations, identified the portion of the Bering Sea subarea that would be left open to nonpelagic trawling based on more than one occurrence of nonpelagic trawl fishing through 2005, and to provide for potential northwest shifting of the arrowtooth flounder distribution. Historical and present nonpelagic trawling is primarily on the continental slope extending into the southern portions of statistical areas 514 and 524. Several trawl closures currently exist within and to the south of this location. These include the Red King Crab Savings Area, Pribilof Island Area Habitat Conservation Zone, Chinook Salmon Savings Area, Chum Salmon Savings Area, and Nearshore Bristol Bay trawl closures under §§ 679.22(a) and 679.21(e)(7). In addition, waters north of Kuskokwim Bay are included in several additional nonpelagic trawl closures under this action and are further explain below. Most of the Bering Sea subarea west of the current trawled area does not have existing nonpelagic trawl closures.

The Bering Sea subarea east of the current trawled area is currently closed to nonpelagic trawling or is proposed to be closed to nonpelagic trawling under this action. The Council intends, and the Secretary proposes, to limit the nonpelagic trawl footprint in the Bering Sea subarea by establishing a nonpelagic trawl closed area in waters of the Bering Sea subarea to the west of areas that have been trawled with nonpelagic gear.

To provide a clear delineation of the location where nonpelagic trawling is prohibited, the proposed rule would establish the Bering Sea Habitat Conservation Area (BSHCA). The BSHCA would encompass waters of the Bering Sea subarea west of areas that have been trawled by nonpelagic gear along the shelf break of the continental slope. The BSHCA would include waters where no more than one occurrence of nonpelagic trawling has occurred and where the future arrowtooth flounder fishery is not likely to occur. This area would be closed to nonpelagic trawling and would cover 46,776 square nautical miles (nm2).

The BSHCA would be located in statistical area 530 and portions of areas 518, 523, 533, and 531. The eastern border of the area generally follows the shelf break of the continental slope, provides for the expansion of the arrowtooth flounder fishery and meets the goal of prohibiting nonpelagic trawling where no more than one event of nonpelagic trawling has occurred. The southern boundary of the area follows the northern borders of the statistical areas of the Aleutian Islands subarea (areas 541, 542, and 543) with two deviations around the northern portions of the Bowers Ridge Habitat Conservation Zone (BRHCZ). The BRHCZ was established with the EFH protection measures for the Aleutian Islands (71 FR 36694, June 28, 2006) and is closed to mobile bottom contact gear, including nonpelagic trawling. The western boundary follows the edge of statistical area 550 and the limits of the U. S. Exclusive Economic Zone. The proposed BSHCA boundaries would facilitate enforcement of the closure by generally following established statistical areas and present closed area boundaries. The BSHCA is depicted in Figure 16 in the proposed regulations below.

St. Lawrence Island Habitat Conservation Area

The Council recommended, and the Secretary proposes, closing waters surrounding St. Lawrence Island to nonpelagic trawl gear to conserve blue king crab habitat and minimize potential interactions with community use and subsistence fisheries taking place in nearshore areas. The boundaries of this area are based on the areas likely to support subsistence resources and along latitude and longitude lines to facilitate enforcement of the closure. This closure would cover 7,052 nm². The St. Lawrence Island Habitat Conservation Area is depicted in Figure 17 in the proposed regulations below.

St. Matthew Island Habitat Conservation Area

The proposed rule would close waters near St. Matthew Island to nonpelagic trawling to protect bottom habitat for blue king crab. Various life stages of blue king crab occur in waters surrounding St. Matthew Island. Waters southwest of the island contain juvenile, non-ovigerous female and male blue king crab habitat, and waters to the northeast contain ovigerous females. The blue king crab stock is severely depleted; the last pot survey found only 5 legal male blue king crab in the St. Matthew Island area. Some flatfish nonpelagic trawling has occurred near St. Matthew Island as the distribution of arrowtooth flounder, rock sole, flathead sole, and Alaska plaice has moved north in the Bering Sea subarea (Section 3 of the EA/RIR/IRFA, see ADDRESSES). Flatfish fishing near St. Matthew Island may increase if the flatfish fishery continues to move north. The Council recommended that the area near St. Matthew Island be closed to nonpelagic trawling given the depleted blue king crab stock and the potential effects of nonpelagic trawling on blue king crab habitat. The recommended closed area includes the waters where blue king crab have been found and is shaped using straight lines to facilitate enforcement of the closure (Figure 1). This closure would cover 4,013 nm².

Nunivak Island, Etolin Strait, and Kuskokwim Bay Habitat Conservation Area

The Council consulted with a workgroup of fishing industry and subsistence resources users to identify bottom habitat supporting subsistence marine resources for protection. These resources include marine mammals, fish, and seabirds harvested by subsistence users from coastal and interior Alaska. Based on the results of the workgroup, the Council recommended, and the Secretary proposes, prohibiting nonpelagic trawling in waters surrounding Nunivak Island and within Etolin Strait and Kuskokwim Bay. The northern and western edges of the area include waters with bottom habitat supporting subsistence resources and follow latitude and longitude lines to facilitate enforcement of the nonpelagic trawl closure. The southern boundary of the area is based on negotiations between the fishing industry and subsistence marine resource users. The boundaries of the closure area ensure access to important flatfish fishing locations while providing protection of important bottom habitat supporting subsistence marine resources. This closure would cover 9,777 nm2. The Nunivak Island, Etolin Strait, and Kuskokwim Bay Habitat Conservation Area is depicted in Figure 21 in the proposed regulations text.

Northern Bering Sea Research Area

The Council also recommended, and the Secretary proposes, to establish the Northern Bering Sea Research Area (NBSRA) to further understand the potential effects of nonpelagic trawling on Bering Sea subarea bottom habitat. This area would include waters with little or no nonpelagic trawling north of the open area for nonpelagic trawling described above under the BSHCA description and north of the Nunivak Island, Etolin Strait, and Kuskokwim Bay Habitat Conservation Area. The proposed rule would close the NBSRA to commercial nonpelagic trawling to provide a controlled area to study the potential effects of nonpelagic trawling on bottom habitat. This area would include the northern portions of statistical areas 514 and 524, exclusive of the closures around St. Lawrence. This closure would cover 65,859 nm2. The NBSRA is depicted in Figure 17 in the proposed regulations below.

The proposed rule would allow nonpelagic trawling within the NBSRA only within the scope of a nonpelagic trawling effects research plan. The Council intends that a research plan would be developed, in cooperation with the Alaska Fisheries Science Center, NMFS, that addresses potential protection measures for species that may depend on bottom habitat, including king and snow crabs, marine mammals, Endangered Species Act-listed species, and subsistence marine resources for Western Alaska communities. This research plan would be reviewed by the Council within 24 months after the publication of the final rule implementing Amendment 89. Any future nonpelagic trawling in the NBSRA would be limited to fishing under an exempted fishing permit issued under § 679.6 that meets the purposes of the approved research plan.

Regulatory Amendments

The proposed rule would add definitions to § 679.2 and new coordinate tables and figures for the areas proposed to be closed to nonpelagic trawling and the research area. Because of the complexity of the area boundaries, the definitions for the BSHCA; NBSRA; and Nunivak Island, Etolin Strait, and Kuskokwim Bay Habitat Conservation Area would refer to Tables 42, 43, and 44, and Figures 16, 17, and 21 to part 679, respectively. The definitions for the St. Lawrence Island Habitat Conservation Area and St Matthew Island Habitat Conservation Area would refer to Tables 45 and 46 to part 679 for the area boundaries; no figures are necessary due to the simple shapes of these closures.

The proposed rule would add to § 679.22(a)(16) through (20) to close the BSHCA, St. Matthew Island, St. Lawrence Island, Nunivak Island, Etolin Strait, Kuskokwim Bay habitat conservation areas, and NBSRA to nonpelagic trawling.

Classification

Pursuant to section 304(b)(1)(A) of the Magnuson-Stevens Act, the NMFS Acting Assistant Administrator has determined that this proposed rule is consistent with Amendment 89 to the FMP for Groundfish of the BSAI, other provisions of the Magnuson-Stevens Act, and other applicable law, subject to further consideration after public comment.

This proposed rule has been determined to be not significant for the purposes of Executive Order 12866.

NMFS prepared an initial regulatory flexibility analysis (IRFA), as required by section 603 of the Regulatory Flexibility Act (RFA). The IRFA describes the economic impact this proposed rule, if adopted, would have on small entities. Descriptions of the action, the reasons it is under consideration, and its objectives and legal basis, are contained at the beginning of this section in the preamble and in the SUMMARY section of the preamble. A summary of the analysis follows. A copy of this analysis is available from NMFS (see ADDRESSES).

Fishing vessels, both catcher vessels and catcher/processors (CPs), are considered small, for RFA purposes, if their gross receipts, from all their economic activities combined, as well as those of any and all their affiliates anywhere in the world, (including fishing in federally-managed non-groundfish fisheries, and in Alaska-managed fisheries), are less than or equal to $4.0 million annually. Further, fishing vessels were considered to be large if they were affiliated with an American Fisheries Act fishing cooperative in 2004. The members of these cooperatives had combined revenues that exceeded the $4.0 million threshold.

The entities that would be directly regulated by the alternatives are those vessels that fish for groundfish with nonpelagic trawl gear in the eastern Bering Sea off Alaska. Section 5.6 of the RIR provides a description of these fisheries and estimates the numbers of unique vessels that presently participate (see ADDRESSES). Approximately 22 to 24 vessels have participated in the nonpelagic trawl CP fishery off Alaska in recent years. Based on analysis of total annual gross revenues, two of the vessels should be classified as small entities. Six Community Development Quota groups and their associated communities are considered small entities and are directly regulated by this action because their allocation of BSAI species harvested by nonpelagic trawl gear occurs within the areas defined by this action.

This regulation does not impose new recordkeeping and reporting requirements on the regulated small entities.

The IRFA did not reveal any Federal rules that duplicate, overlap, or conflict with the proposed action.

The Council considered three alternatives (Alternatives 1, 2, and 3) and five options (Options 1, 2, 3, 4, and 5) to the alternatives for this action. The suite of alternatives and options were developed in consultation with members of the nonpelagic trawl CP fleet to minimize potential adverse economic effects on directly regulated entities. The preferred alternative and options constituting the “proposed action” reflect the least burdensome of management structures available in terms of directly regulated small entities, while fully achieving the conservation and management purposes articulated by the Council.

Alternative 1, the no action alternative, would not meet the objectives of this action. This alternative would allow nonpelagic trawling to expand into areas not previously trawled and would not meet the objective to protect certain bottom habitat in the Bering Sea subarea. Alternative 3, which would modify flatfish trawl gear to reduce contact with the bottom, was not recommended by the Council at this time because the gear is currently under development, and gear standards are not yet ready for implementation.

Under Alternative 2 for the BSHCA, the boundaries of the closure area were established in locations that have not been trawled more than once and are not likely to be trawled in the future. In addition, the boundary of the BSHCA was adjusted to allow for potential future development of the arrowtooth flounder fishery. These features of the BSHCA mitigate potential adverse economic effects on small entities by allowing continued fishing where substantial amounts of fishing have already occurred and to allow for future expansion of the arrowtooth flounder fishery.

The boundaries for the nonpelagic trawl closures under Options 1, 3, 4, and 5 also were developed in consultation with members of the nonpelagic trawl CP fleet. Under Options 1 and 5, the waters near St. Matthew and St. Lawrence Islands were not substantially trawled and are not likely to be trawled in the future, so the closures in these areas are not likely to result in an adverse economic effect on small entities. Option 2 closed waters near Nunivak Island and Etolin Strait but would not close waters within Kuskokwim Bay to nonpelagic trawling. Option 3 expanded on the closures under Option 2 by establishing the Nunivak Island, Etolin Strait, and Kuskokwim Bay closure boundaries. Option 3 closures were carefully negotiated between members of the nonpelagic trawl CP fleet and some users of the subsistence marine resources in the area. Adjustments were made to the boundaries to ensure the flatfish fleet had access to concentrations of flatfish while still maintaining overall protection to bottom habitat from the potential effects of nonpelagic trawling. These boundary adjustments reduce potential adverse economic effects on small entities participating in the flatfish trawl fishery.

Under Option 4 for the NBSRA, the southern boundary of the area was also based on consultation with members of the affected trawl CP fleet to ensure the closure would not prevent fishing in areas currently fished and allowed for some northern movement of the fleet if fish stocks also move north with global warming. The southern boundary of the NBSRA would mitigate any potential adverse economic impact on small entities by allowing continued fishing in locations historically fished and permitting some flexibility with any future movement of fish stocks.

Executive Order (E.O.) 13175 of November 6, 2000 (25 U.S.C. 450 note), the Executive Memorandum of April 29, 1994 (25 U.S.C. 450 note), and the American Indian and Alaska Native Policy of the U. S. Department of Commerce (March 30, 1995) outline the responsibilities of NMFS in matters affecting tribal interests. Section 161 of Public Law (P.L.) 108-199 (188 Stat. 452), as amended by section 518 of P.L. 109-447 (118 Stat. 3267), extends the consultation requirements of E. O. 13175 to Alaska Native corporations.

NMFS will contact tribal governments and Alaska Native corporations which may be affected by the proposed action, provide them with a copy of this proposed rule, and offer them an opportunity to consult.

List of Subjects in 50 CFR Part 679

Alaska, Fisheries, Recordkeeping and reporting requirements.

Dated: March 3, 2008.
John Oliver,
Deputy Assistant Administrator for Operations, National Marine Fisheries Service.

For reasons set out in the preamble, NMFS proposes to amend 50 CFR part 679 as follows:

PART 679—FISHERIES OF THE EXCLUSIVE ECONOMIC ZONE OFF ALASKA

1. The authority citation for part 679 continues to read as follows:

Authority: 16 U.S.C. 773 et seq.; 1801 et seq.; 3631 et seq.; Pub. L. 108 447.

2. In § 679.2, add in alphabetical order definitions for “Bering Sea Habitat Conservation Area”, “Northern Bering Sea Research Area”, “Nunivak Island, Etolin Strait, and Kuskokwim Bay Habitat Conservation Area”, “St. Lawrence Island Habitat Conservation Area”, and “St. Matthew Island Habitat Conservation Area” to read as follows:

§ 679.2 Definitions.

Bering Sea Habitat Conservation Area means a habitat protection area specified at Table 42 and Figure 16 to this part.

Northern Bering Sea Research Area means a habitat research area specified at Table 43 and Figure 17 to this part.

Nunivak Island, Etolin Strait, and Kuskokwim Bay Habitat Conservation Area means a habitat protection area specified at Table 44 and Figure 21 to this part.

St. Lawrence Island Habitat Conservation Area means a habitat protection area specified at Table 45 to this part.

St. Matthew Island Habitat Conservation Area means a habitat protection area specified at Table 46 to this part.

3. In § 679.22, paragraphs (a)(16) through (a)(20) are added to read as follows:

§ 679.22 Closures.

(a) * * *

(16) Bering Sea Habitat Conservation Area. No federally permitted vessel may fish with nonpelagic trawl gear in the Bering Sea Habitat Conservation Area specified at Table 42 and Figure 16 to this part.

(17) Northern Bering Sea Research Area. No federally permitted vessel may fish with nonpelagic trawl gear in the Northern Bering Sea Research Area specified at Table 43 and Figure 17 to this part.

(18) Nunivak Island, Etolin Strait, and Kuskokwim Bay Habitat Conservation Area. No federally permitted vessel may fish with nonpelagic trawl gear in the Nunivak Island, Etolin Strait, and Kuskokwim Bay Habitat Conservation Area specified at Table 44 and Figure 21 to this part.

(19) St. Lawrence Island Habitat Conservation Area. No federally permitted vessel may fish with nonpelagic trawl gear in the St. Lawrence Island Habitat Conservation Area specified at Table 45 to this part.

(20) St. Matthew Island Habitat Conservation Area. No federally permitted vessel may fish with nonpelagic trawl gear in the St. Matthew Island Habitat Conservation Area specified at Table 46 to this part.

4. Tables 42 through 46 are added to part 679 to read as follows:

Table 42 to Part 679 - Bering Sea Habitat Conservation Area.
Longitude | Latitude
179 19.95 W | 59 25.15 N
177 51.76 W | 58 28.85 N
175 36.52 W | 58 11.78 N
174 32.36 W | 58 8.37 N
174 26.33 W | 57 31.31 N
174 0.82 W | 56 52.83 N
173 0.71 W | 56 24.05 N
170 40.32 W | 56 1.97 N
168 56.63 W | 55 19.30 N
168 0.08 W | 54 5.95 N
170 0.00 W | 53 18.24 N
170 0.00 W | 55 0.00 N
178 46.69 E | 55 0.00 N
178 27.25 E | 55 10.50 N
178 6.48 E | 55 0.00 N
177 15.00 E | 55 0.00 N
177 15.00 E | 55 5.00 N
176 0.00 E | 55 5.00 N
176 0.00 E | 55 0.00 N
172 6.35 E | 55 0.00 N
173 59.70 E | 56 16.96 N
Note: The area is delineated by connecting the coordinates in the order listed by straight lines. The last set of coordinates for each area is connected to the first set of coordinates for the area by a straight line. The projected coordinate system is North American Datum 1983, Albers.

Table 43 to Part 679 - Northern Bering Sea Research Area.
Longitude | Latitude
168 7.48 W | 65 37.48N*
165 1.54 W | 60 45.54 N
167 59.98 W | 60 45.55 N
171 9.92 W | 60 3.52 N
172 0.00 W | 60 54.00 N
174 1.24 W | 60 54.00 N
176 13.51 W | 62 6.56 N
172 24.00 W | 63 57.03 N
172 24.00 W | 62 42.00 N
168 24.00 W | 62 42.00 N
168 24.00 W | 64 0.00 N
172 17.42 W | 64 0.01 N
168 58.62 W | 65 30.00 N
168 58.62 W | 65 37.48 N
Note: The area is delineated by connecting the coordinates in the order listed by straight lines except as noted by * below. The last set of coordinates for each area is connected to the first set of coordinates for the area by a straight line. The projected coordinate system is North American Datum 1983, Albers.
* This boundary extends in a clockwise direction from this set of geographic coordinates along the shoreline at mean lower-low tide line to the next set of coordinates.

Table 44 to Part 679 - Nunivak Island, Etolin Strait, and Kuskokwim Bay Habitat Conservation Area.
Longitude | Latitude
165 1.54 W | 60 45.54 N*
162 7.01 W | 58 38.27 N
162 10.51 W | 58 38.35 N
162 34.31 W | 58 38.36 N
162 34.32 W | 58 39.16 N
162 34.23 W | 58 40.48 N
162 34.09 W | 58 41.79 N
162 33.91 W | 58 43.08 N
162 33.63 W | 58 44.41 N
162 33.32 W | 58 45.62 N
162 32.93 W | 58 46.80 N
162 32.44W | 58 48.11 N
162 31.95 W | 58 49.22 N
162 31.33 W | 58 50.43 N
162 30.83 W | 58 51.42 N
162 30.57 W | 58 51.97 N
163 17.72 W | 59 20.16 N
164 11.01 W | 59 34.15 N
164 42.00 W | 59 41.80 N
165 0.00 W | 59 42.60 N
165 1.45 W | 59 37.39 N
167 40.20 W | 59 24.47 N
168 0.00 W | 59 49.13 N
167 59.98 W | 60 45.55 N
Note: The area is delineated by connecting the coordinates in the order listed by straight lines, except as noted by * below. The last set of coordinates for each area is connected to the first set of coordinates for the area by a straight line. The projected coordinate system is North American Datum 1983, Albers.
* This boundary extends in a clockwise direction from this set of geographic coordinates along the shoreline at mean lower-low tide line to the next set of coordinates.

Table 45 to Part 679 - St. Lawrence Island Habitat Conservation Area.
Longitude | Latitude
168 24.00 W | 64 0.00 N
168 24.00 W | 62 42.00 N
172 24.00 W | 62 42.00 N
172 24.00 W | 63 57.03 N
172 17.42 W | 64 0.01 N
Note: The area is delineated by connecting the coordinates in the order listed by straight lines. The last set of coordinates for each area is connected to the first set of coordinates for the area by a straight line. The projected coordinate system is North American Datum 1983, Albers.

Table 46 to Part 679 - St. Matthew Island Habitat Conservation Area.
Longitude | Latitude
172 0.00 W | 60 54.00 N
171 59.92 W | 60 3.52 N
174 0.50 W | 59 42.26 N
174 24.98 W | 60 9.98 N
174 1.24 W | 60 54.00 N
Note: The area is delineated by connecting the coordinates in the order listed by straight lines. The last set of coordinates for each area is connected to the first set of coordinates for the area by a straight line. The projected coordinate system is North American Datum 1983, Albers.

5. Figures 16 and 17 are added to part 679 to read as follows:

BILLING CODE 3510-22-S

6. Figure 21 is added to part 679 to read as follows:

[FR Doc. 08-988 Filed 3-6-08; 8:45 am]

BILLING CODE 3510-22-C